Title 3—

The President

Proclamation 7543 of April 18, 2002

National Crime Victims' Rights Week, 2002

By the President of the United States of America

A Proclamation

Thirty years ago, advocates from some of the most crime-ridden neighborhoods of St. Louis, San Francisco, and Washington, D.C., founded the Nation's first assistance programs for crime victims. These centers were established in communities where violence was common, and they were clear about their mission: to bring help, hope, and healing to those who had suffered the effects of crime. The creation of these victim-assistance programs launched a movement that brought domestic violence shelters, homicide victim support groups, and rape crisis centers to help victims in cities and towns throughout the United States.

The crime victims' rights movement also brought changes in the way the criminal justice system treats and interacts with crime victims. In many cases, crime victims began to be treated with greater respect and to play an important role in criminal justice proceedings.

In 1982, President Ronald Reagan assembled a task force of nine national leaders to travel the country and listen to service providers, criminal justice professionals, and victims. The Task Force's Final Report listed 68 recommendations for meeting victims' needs, including the need for a Federal constitutional amendment. The momentum generated by this report helped spur passage of the Victims of Crime Act of 1984, which now supports thousands of assistance programs throughout the Nation. The Victim and Witness Protection Act of 1982 and other laws have given victims of Federal crimes many important rights.

All 50 States have now passed victims' rights laws, and more than half the States have amended their constitutions to guarantee rights for crime victims. However, more remains to be done to secure victims' rights. I support a Federal Constitutional Amendment to protect the rights of victims of violent crime.

Our Nation has come to realize the tragic toll that crime takes, and we have developed the resources to ease crime's physical, emotional, and financial impact. This support network, which was already in place on September 11, made us better prepared to deal with the unspeakable pain and tragedy inflicted by the terrorist attacks. Along with the many firefighters, law enforcement officers, paramedics, and rescue workers who responded in New York, Washington, D.C., and Pennsylvania, hundreds of counselors, chaplains, social workers, volunteers, and victim service providers came together for the common purpose of helping the victims, the families, and our Nation.

My Administration has made the fight against crime a top priority. But when a crime does occur, I am dedicated to providing assistance and comfort to victims and to ensuring that the rights of victims are protected. At the time of their great trauma, crime victims deserve nothing less than our complete support.

NOW, THEREFORE, I, GEORGE W. BUSH, President of the United States of America, by virtue of the authority vested in me by the Constitution and laws of the United States, do hereby proclaim April 21 through April 27, 2002, as National Crime Victims' Rights Week. I encourage every community to embrace the cause of victims' rights and services and to advance them in all sectors of our society.

IN WITNESS WHEREOF, I have hereunto set my hand this eighteenth day of April, in the year of our Lord two thousand two, and of the Independence of the United States of America the two hundred and twenty-sixth.

B

[FR Doc. 02-10086

Filed 4-22-02; 8:45 am]

Billing code 3195-01-P